OFFICE OF PERSONNEL MANAGEMENT

Privacy Act of 1974; System of Records

AGENCY: U.S. Office of Personnel Management, Survey Analysis, Office of Strategy and Innovation.

ACTION: Notice of a new system of records.

SUMMARY: In accordance with the Privacy Act of 1974, the Office of Personnel Management (OPM) proposes to establish a new OPM system of records titled “OPM/Central-21 Federal Employee Viewpoint Survey System of Records.” This system of records contains information that OPM collects, maintains, and uses in order to develop and administer the Federal Employee Viewpoint Survey (FEVS) and to evaluate and distribute the results of that survey. This system of records will be included in the Office of Personnel Management's inventory of record systems.

DATES: Please submit comments on or before January 4, 2018. This new system is effective upon publication in today's Federal Register, with the exception of the routine uses, which are effective January 9, 2018.

ADDRESSES: You may submit written comments by one of the following methods:

• Mail: Dr. Kimberly J. Wells, Survey Analysis, Office of Strategy and Innovation, Office of Personnel Management, 1900 E Street NW., 4332-S, Washington, DC 20415.

• Email: EVS@opm.gov.

FOR FURTHER INFORMATION, CONTACT: For general questions, please contact: Dr. Kimberly J. Wells, Survey Analysis, Office of Strategy and Innovation, Office of Personnel Management at EVS@opm.gov. For privacy questions, please contact: Kellie Cosgrove Riley, 202-606-2308, Chief Privacy Officer, Office of Personnel Management.

SUPPLEMENTARY INFORMATION: In accordance with the Privacy Act of 1974, 5 U.S.C. 552a, the Office of Personnel Management proposes to establish a new system of records titled “OPM/Central-21 Federal Employee Viewpoint Survey System.” This system of records is being established in order to develop and administer the Federal Employee Viewpoint Survey (FEVS) and to evaluate and distribute the results of that survey. This system of records contains information that OPM collects, maintains, and uses regarding individuals who are potential or actual survey respondents.

The Federal Human Capital Survey (FHCS) was first administered in 2002 under OPM general authorities to conduct studies and research in personnel management, with subsequent biennial administrations in 2004, 2006, and 2008. Starting in 2010, the FHCS was rebranded as the “Federal Employee Viewpoint Survey” and conducted annually. These surveys have roots in the long history of OPM-administered Governmentwide surveys going back to the 1979 Federal Employee Attitudes Survey first administered the same year OPM was instituted under the Civil Service Reform Act of 1978.

A 2003 law enacted by Congress (National Defense Authorization Act for FY 2004) required each agency to conduct an annual survey of their employees and make results available to the public. As required by the law, OPM issued regulations (5 CFR part 250) in 2006 and revised in 2016 containing survey items covering topic areas prescribed by the law and other general requirements. Both the FEVS and the 2008 FHCS (the survey administered after the regulations went into effect) included the required survey items as part of their overall scope and served as a conduit through which participating executive branch agencies have fulfilled their annual employee survey obligation.

The FEVS is a tool that measures Federal employees' perceptions of whether, and to what extent, conditions that characterize successful organizations are present in their agencies. The FEVS provides general indicators of how well the Federal government is running its human resources management systems, and gives senior managers critical information needed to make their agency work better. It is administered to evaluate elements of strategic human capital management, to assess the general climate of the Federal workforce and to appraise various programs and human capital topics as necessary. The FEVS covers multiple human capital topic areas, including, but not limited to, those specified in 5 CFR 250.302. Survey questions ask participants to share their attitudes, behaviors, and thoughts on these topic areas. In addition, more agency-specific evaluation questions may be added from time to time. Demographic questions are also included to evaluate differences among subgroups in the way responses were distributed.

In order to administer the FEVS, information about Federal employees is collected from OPM's Enterprise Human Resource Integration (EHRI) system, consistent with the OPM/Govt 1 General Personnel Records system of records. The data from EHRI is used to (1) identify current Federal employees, (2) determine survey eligibility, (3) collect contact information where necessary and available, (4) perform statistical weighting procedures using select demographic information, and (5) support research and reporting functions.

In addition to the EHRI data, additional organizational and employee data are collected from participating agencies. Organizational data includes the hierarchical structure of the agency and the titles associated with all work groups, branches, and divisions of that hierarchy. Employee data can include names, other personal identifiers such as Social Security number and date of birth, email addresses, and work unit identifiers. The combination of organizational data and personnel work unit identifier allows for accurate sampling and reporting of summarized survey results for work units that meet the requirement of meeting or exceeding the minimum number of respondents necessary to adequately protect respondent confidentiality.

Eligible employees selected to participate in the FEVS are sent an email invitation that includes a unique link to the survey. Follow-up emails are sent weekly until the employee either completes the survey or informs OPM that he or she wishes to opt-out. The survey is web-based, designed and operated within OPM using commercial software running on OPM servers. All surveys and survey items are voluntary. That is, employees may choose to respond to all, some, or none of the items. Surveys with at least 25% of the non-demographic items answered are considered complete and will be used. After the survey administration, data cleaning and statistical weighting procedures are executed by OPM and a contractor. Once final data are available, reports of summary survey results are generated and distributed to agencies via an OPM contractor who creates the reports and maintains the distribution platform. At the end of the FEVS cycle, selected summary results and a technical report may be published, and a public release data file released.

The records concerning the potential and actual survey respondents will be maintained in the OPM/Central-21 Federal Employee Viewpoint Survey System. This system of records will be included in OPM's inventory of records systems. In accordance with 5 U.S.C. 552a(r), OPM has provided a report of this system of records to the Office of Management and Budget and to Congress.

U.S. Office of Personnel Management.
Kathleen M. McGettigan,
Acting Director.

SYSTEM NAME AND NUMBER:

Federal Employee Viewpoint Survey System, OPM/Central-21.

SECURITY CLASSIFICATION:

Unclassified.

SYSTEM LOCATION:

Records are maintained by the Office of Strategy and Innovation, Office of Personnel Management, 1900 E Street NW., Washington, DC 20415, as well as by an OPM contractor in Rockville, Maryland.

SYSTEM MANAGER(S):

Manager, Survey Analysis, Office of Strategy and Innovation, U.S. Office of Personnel Management, 1900 E. Street NW., Washington, DC 20415, EVS@opm.gov.

AUTHORITY FOR MAINTENANCE OF THE SYSTEM:

5 U.S.C. 1103, 4702, and 7101 note (referencing Pub. L. 108-136 section 1128); 5 CFR 5.2(b) and 9.2; 5 CFR part 250; Executive Order 13197.

PURPOSE(S) OF THE SYSTEM:

The purpose of the system is to permit OPM to administer, collect, maintain, and evaluate the results of, the Federal Employee Viewpoint Survey, a comprehensive set of questions posed to selected Federal employees throughout executive branch agencies; to measure Federal employees' perceptions of whether, and to what extent, conditions that characterize successful organizations are present in their agencies; to obtain general indicators of how well the Federal Government is running its human resources management systems; to assess the general climate of the Federal workforce; to appraise programs and human capital topics as necessary; to provide senior managers with critical information needed to make their agency work better; to provide the results of the survey to individual agencies, Congress, other oversight entities, and the public, as appropriate; to determine individuals' eligibility for the survey; and to conduct statistical weighting procedures. In addition, information in this system of records is used to produce a de-identified, publicly available data file that contains survey responses, select demographics, and limited agency organizational information; as well as to produce reports of summarized survey results for participating agencies, their subcomponents, and others.

CATEGORIES OF INDIVIDUALS COVERED BY THE SYSTEM:

Current Federal employees.

CATEGORIES OF RECORDS IN THE SYSTEM:

a. Full name;

b. Email address;

c. Social Security number, or other unique employee identification number;

d. Agency;

e. Agency subcomponent;

f. Organizational/Work component names and codes (up to nine levels of work unit information may be obtained);

g. Appointment authority;

h. Type of appointment;

i. Work schedule;

j. Tenure;

k. Service computation date;

l. Duty location and core based statistical area;

m. Occupational classification or series;

n. Personnel Office identifier;

o. Pay status;

p. Grade level;

q. Pay plan;

r. Base and adjusted salary;

s. Retirement plan;

t. Supervisory status;

u. Ethnicity and Race/National Origin indicator;

v. Sex;

w. Date of birth;

x. Responses to the FEVS survey questions, including demographic information.

RECORD SOURCE CATEGORIES:

Records are obtained from the Office of Personnel Management's Enterprise Human Resource Integration system, which contains general personnel records from the OPM/Govt 1 General Personnel Records system of records, from the individual Federal agencies that participate in the FEVS, and from the individuals who voluntarily complete the FEVS.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside OPM as a routine use pursuant to 5 U.S.C. 552a(b)(3) as follows:

a. To the Department of Justice, including Offices of the U.S. Attorneys; another Federal agency conducting litigation or in proceedings before any court, adjudicative, or administrative body; another party in litigation before a court, adjudicative, or administrative body; or to a court, adjudicative, or administrative body. Such disclosure is permitted only when it is relevant or necessary to the litigation or proceeding and one of the following is a party to the litigation or has an interest in such litigation:

(1) OPM, or any component thereof;

(2) Any employee or former employee of OPM in his or her official capacity;

(3) Any employee or former employee of OPM in his or her individual capacity where the Department of Justice or OPM has agreed to represent the employee;

(4) The United States, a Federal agency, or another party in litigation before a court, adjudicative, or administrative body, upon the OPM General Counsel's approval, pursuant to 5 CFR part 295 or otherwise.

b. To the appropriate Federal, State, or local agency responsible for investigating, prosecuting, enforcing, or implementing a statute, rule, regulation, or order, when a record, either on its face or in conjunction with other information, indicates or is relevant to a violation or potential violation of civil or criminal law or regulation.

c. To a member of Congress from the record of an individual in response to an inquiry made at the request of the individual to whom the record pertains.

d. To the National Archives and Records Administration (NARA) for records management inspections being conducted under the authority of 44 U.S.C. 2904 and 2906.

e. To appropriate agencies, entities, and persons when (1) OPM suspects or has confirmed that there has been a breach of the system of records,· (2) OPM has determined that as a result of the suspected or confirmed breach there is a risk of harm to individuals, OPM (including its information systems, programs, and operations), the Federal Government, or national security; and (3) the disclosure made to such agencies, entities, and persons is reasonably necessary to assist in connection with OPM's efforts to respond to the suspected or confirmed breach or to prevent, minimize, or remedy such harm.

f. To another Federal agency or Federal entity, when OPM determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

g. To contractors, grantees, experts, consultants, or volunteers performing or working on a contract, service, grant, cooperative agreement, or other assignment for OPM when OPM determines that it is necessary to accomplish an agency function related to this system of records. Individuals provided information under this routine use are subject to the same Privacy Act requirements and limitations on disclosure as are applicable to OPM employees.

h. To Federal agencies whose employees participate in the FEVS, and their subcomponents, where OPM determines that assistance may be required in any aspect of administering and reporting on the FEVS.

POLICIES AND PRACTICES FOR STORAGE OF RECORDS:

The records in this system of records are stored electronically on OPM's local area network with access limited to a small number of personnel in the Office of Strategy and Innovation. In addition, records are stored by OPM's contractor at its location with access restricted to authorized users.

POLICIES AND PRACTICES FOR RETRIEVAL OF RECORDS:

Records may be retrieved by name, email address, or other personal identifier but are generally only retrieved in this manner leading up to and during the administration of the FEVS. After the FEVS is administered, personal identifiers are rarely used, to retrieve records or otherwise. Instead, records post-administration of the FEVS are generally retrieved by agency work unit and/or demographics in a manner that is not intended to identify individual survey respondents.

POLICIES AND PRACTICES FOR RETENTION AND DISPOSAL OF RECORDS:

OPM is currently working to develop a records schedule to submit to the National Archives and Records Administration for approval. Until a records schedule is in place, the records will be retained as permanent records.

ADMINISTRATIVE, TECHNICAL, AND PHYSICAL SAFEGUARDS:

Records in the system are protected from unauthorized access and misuse through various administrative, technical and physical security measures. OPM security measures are in compliance with the Federal Information Security Modernization Act (Pub. L. 113-283), associated OMB policies, and applicable standards and guidance from the National Institute of Standards and Technology (NIST).

RECORD ACCESS PROCEDURES:

Individuals seeking notification of and access to their records in this system of records may submit a request in writing to the Office of Personnel Management, Office of Strategy and Innovation, 1900 E Street NW., Washington, DC 20415. Individuals must furnish the following information for their records to be located:

1. Full name.

2. Date of birth.

3. Social Security Number.

4. Signature.

5. Available information regarding the type of information requested.

6. The reason why the individual believes this system contains information about him/her.

7. The address to which the information should be sent.

Individuals requesting access must also comply with OPM's Privacy Act regulations regarding verification of identity and access to records (5 CFR 297).

CONTESTING RECORD PROCEDURES:

Individuals may request that records about them be amended by writing to the Office of Personnel Management, Office of Strategy and Innovation, 1900 E Street NW., Washington, DC 20415 and furnish the following information for their records to be located:

1. Full name.

2. Date of birth.

3. Social Security Number.

4. Signature.

5. Precise identification of the information to be amended.

Individuals requesting amendment must also follow OPM's Privacy Act regulations regarding verification of identity and amendment to records (5 CFR 297).

NOTIFICATION PROCEDURES:

See “Record Access Procedure.”

EXEMPTIONS PROMULGATED FOR THE SYSTEM:

None.

HISTORY:

None.

[FR Doc. 2017-26107 Filed 12-4-17; 8:45 am]

BILLING CODE 6325-45-P